DEPARTMENT OF AGRICULTURE

Commodity Credit Corporation

Notice of Change to Address for Hand Delivery of 2006 Applications to the Market Development Programs, Technical Assistance for Specialty Crops (TASC); Quality Samples Program (QSP); Market Access Program (MAP); Foreign Market Development Program (FMD); and Emerging Markets Program (EMP)

Reference Original Federal Register Notice Publication Dates and Catalog of Federal Domestic Assistance (CFDA) Numbers: TASC—70 FR 76230, December 23, 2005, CFDA 10.604; QSP—70 FR 76742, December 28, 2005, CFDA 10.605; MAP—70 FR 76740, December 28, 2005, CFDA 10.601; FMD—70 FR 76738, December 28, 2005, CFDA 10.600; and EMP—70 FR 76735, December 28, 2005, CFDA 10.603.

SUMMARY: The Commodity Credit Corporation is notifying the public of a change in address for hand delivery (including FedEx, DHL, UPS, etc.) of applications for the programs referenced above. Deliver to: U.S. Department of Agriculture, Foreign Agricultural Service, Marketing Operations Staff, 1400 Independence Ave., SW., Room 4932 South Building, Washington, DC 20250-1042.

DATES: All applications for the TASC program for the February 1 deadline must be received by 5 p.m. eastern standard time February 1, 2006. All applications for the QSP, MAP, FMD, and EMP programs must be received by 5 p.m. eastern standard time, March 13, 2006.

FOR FURTHER INFORMATION CONTACT: Entities wishing to apply for funding assistance should contact the Marketing Operations Staff, Foreign Agricultural Service, U.S. Department of Agriculture, 1400 Independence Ave., SW., STOP 1042, Washington, DC 20250-1042, phone: (202) 720-4327, fax: (202) 720-9361, e-mail: mosadmin@fas.usda.gov. Information is also available on the Foreign Agricultural Service Web site at http://www.fas.usda.gov/mos/marketdev.asp.

Signed at Washington, DC, on January 18, 2006.
A. Ellen Terpstra,
Administrator, Foreign Agricultural Service and Vice President, Commodity Credit Corporation.

[FR Doc. 06-679 Filed 1-24-06; 8:45 am]

BILLING CODE 3410-10-M